DEPARTMENT OF TRANSPORTATION

Pipeline and Hazardous Materials Safety Administration

[Docket No. PHMSA-2026-0133]

Best Practices Webinar Series Presented by the National Center of Excellence for Liquefied Natural Gas Safety

AGENCY: Pipeline and Hazardous Materials Safety Administration (PHMSA), Department of Transportation (DOT).

ACTION: Notice of public webinar.

SUMMARY: The National Center of Excellence for Liquefied Natural Gas Safety (National LNG Center) will host a series of informational webinars on best practices for LNG safety, titled “Prioritizing Safety: Best Practices in LNG.” The webinars are free, will be hosted virtually, and will require advance registration. The series will be held monthly using Zoom. Each webinar will be one hour in length and will be recorded. The National LNG Center will provide electronic access to all materials, including recordings, transcripts, and presentations, after conclusion of each webinar. The webinars will cover a different best practice each session.

DATES: The first informational webinar will be held in February 2026. Subsequent webinar dates will be announced and posted as they become available at https://primis-meetings.phmsa.dot.gov, along with additional information about these informational webinars, including how to register.

ADDRESSES:

Meeting Location, Presentation Format: This webinar series of LNG best practices will be held virtually. Visit https://service.govdelivery.com/accounts/USDOTPHMSA/subscriber/new to sign up and receive notifications of the LNG best practices webinar dates. Recordings and transcripts will be posted following each webinar. Links will be provided on the PHMSA Public Meetings page, which can be found at https://primis-meetings.phmsa.dot.gov. Links will also be available on the National LNG Center website, located at https://www.phmsa.dot.gov/lng/national-center-of-excellence-for-lng-safety.

Submitting Comments: You may submit general questions and comments identified by Docket No. PHMSA-2026-0133 using any of the following methods:

E-Gov Website: https://www.regulations.gov. This site allows the public to enter comments on any Federal Register notice issued by any agency. Follow the online instructions for submitting comments.

Mail: Docket Management System: U.S. Department of Transportation (DOT), 1200 New Jersey Avenue SE, West Building Ground Floor, Room W12-140, Washington, DC 20590-0001.

Hand Delivery: U.S. DOT Docket Management System: West Building Ground Floor, Room W12-140, 1200 New Jersey Avenue SE, between 9 a.m. and 5 p.m. EST, Monday through Friday, except Federal holidays.

Fax: 1-202-493-2251.

Instructions: Please include docket number PHMSA-2026-0133 at the beginning of your comments. If you submit your comments by mail, submit two copies. If you wish to receive confirmation that PHMSA received your comments, include a self-addressed stamped postcard. Internet users may submit comments at https://www.regulations.gov.

Note: Comments are posted without changes or edits to https://www.regulations.gov including any personal information provided. There is a privacy statement published on https://www.regulations.gov.

Privacy Act: DOT solicits comments from the public regarding certain general notices. DOT posts these comments without edit, including any personal information the commenter provides, to https://www.regulations.gov as described in the system of records notice (DOT/ALL-14 FDMS), which can be reviewed at https://www.dot.gov/privacy.

Docket: For access to the docket to read background documents or comments received, go to https://www.regulations.gov. Follow the online instructions for accessing the docket. Alternatively, you may review the documents in person at the street address listed above.

FOR FURTHER INFORMATION CONTACT: Sentho White, Director of the National Center of Excellence for Liquefied Natural Gas Safety, by phone at 202-366-2415 or by email at LNGCenter@dot.gov.

SUPPLEMENTARY INFORMATION: The National LNG Center is required by section 111(d) of the Protecting our Infrastructure of Pipelines and Enhancing Safety (PIPES) Act of 2020 (Pub. L. 116-260) to “further[ ] the expertise of the Federal Government in the operations, management, and regulatory practices of LNG facilities through . . . increased communication with LNG experts to learn and support state-of-the-art operational practices,” and to “act[ ] as a repository of information on best practices for the operation of LNG facilities.”

The National LNG Center will use the best practices webinars to promote information-sharing between LNG industry stakeholders, supporting continuous improvements in LNG facility safety and operational performance while complementing minimum regulatory requirements. The best practices include—but are not limited to—LNG facility management, fire protection and safety, operations, maintenance, system/process design, and other leading industry practices. The best practices may be implemented by various LNG facility types, including—but not limited to—baseload facilities (import/export terminals), peak shavers, satellite, temporary/mobile, transportation fuel, and bunkering.

Identified best practices can be applied in the form of a procedure, technique, process, program, consensus standard, or recommended practice and may merit consideration by organizations for implementation because they have demonstrated value in improving safety or reliability; in offering superior performance beyond compliance; or in introducing innovative methods to enhance effectiveness. Delivering these practices via webinars enables a formal process of sharing information with LNG stakeholders.¹ Webinars also facilitate broad outreach, interactive questions and answers, and subsequent measurement of impact.

¹ LNG sector stakeholders, as defined in section 111 of the PIPES Act of 2020, are defined as Federal regulatory agencies of jurisdiction, LNG facilities operating in the United States, State governments, Indian tribes, units of local government, post-secondary educational institutions, labor organizations, and safety organizations.

Issued in the Washington, DC, on January 21, 2026 under authority delegated in 49 CFR 1.97.
Linda Daugherty,
Acting Associate Administrator for Pipeline Safety.

[FR Doc. 2026-01360 Filed 1-23-26; 8:45 am]

BILLING CODE 4910-60-P